DEPARTMENT OF HOMELAND SECURITY

U.S. Customs and Border Protection

Notice of Cancellation of Customs Broker Licenses

AGENCY: U.S. Customs and Border Protection, U.S. Department of Homeland Security.

ACTION: General notice.

SUMMARY: Pursuant to section 641 of the Tariff Act of 1930, as amended, (19 U.S.C. 1641) and the U.S. Customs and Border Protection regulations (19 CFR 111.51), the following Customs broker licenses and all associated permits are cancelled without prejudice.

Name | License No. | Issuing port
Gwin Customs Consulting, Inc | 23512 | Seattle
Compass Customs Brokerage, Inc | 16272 | Houston
Delaware Valley Floral Group, Inc | 21225 | Miami
Deborah L. Butler | 10964 | Houston
Neutral Customs Broker, Inc. | 13905 | Los Angeles

Dated: October 11, 2011.
Richard DiNucci,
Acting Assistant Commissioner, Office of International Trade.

[FR Doc. 2011-27152 Filed 10-19-11; 8:45 am]

BILLING CODE 9111-14-P